DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Alaska Region Bering Sea & Aleutian Islands (BSAI) Crab Economic Data Reports.

OMB Control Number: 0648-0518.

Form Number(s): NA.

Type of Request: Regular submission (renewal with revisions of a current information collection).

Number of Respondents: 132.

Average Hours per Response: Catcher vessel and catcher/processor economic data reports (EDRs), 37 hours; stationary floating processor and shoreside processor EDRs, 48 hours; EDR certifications only, 1 hour; verification of data, 8 hours.

Burden Hours: 4,534.

Needs and Uses: The National Marine Fisheries Service (NMFS) manages the crab fisheries in the waters off the coast of Alaska under the Fishery Management Plan (FMP) for the Bering Sea and Aleutian Islands (BSAI) Crab. The Magnuson-Stevens Fishery Conservation and Management Act, 16 U.S.C. 1801 et seq. (Magnuson-Stevens Act) mandated the Secretary of Commerce to implement the Crab Rationalization Program (CR Program) for the BSAI Management Area (BSAI) crab fisheries. The CR Program allocates BSAI crab resources among harvesters, processors, and coastal communities and monitors the “economic stability for harvesters, processors, and coastal communities.” The Magnuson-Stevens Act provides specific guidance on the CR Program's mandatory EDR used to assess the efficacy of the CR Program. Data from the EDR will directly contribute to ongoing evaluation of potential anti-trust and anti-competitive practices in the crab industry.

Affected Public: Business or other for-profit organizations.

Frequency: Annually.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: April 8, 2011.
Gwellnar Banks,
Management Analyst, Office of the Chief Information Officer.

[FR Doc. 2011-8830 Filed 4-12-11; 8:45 am]

BILLING CODE 3510-22-P